DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

New Isoform of Tyrosinase-Related Protein (TRP-2) that Contains an HLA-A2 Restricted Epitope

Hung T. Khong and Steven A. Rosenberg (NCI)

DHHS Reference No. E-033-01/0 filed 19 Mar 2001

Licensing Contact: Elaine White; 301/496-7056 ext. 282; e-mail: gesee@od.nih.gov

The current invention embodies the identification of a novel mRNA splice variant of the tumor-associated antigen Tyrosinase-Related Protein 2 (TRP-2), which is expressed in most melanoma cell lines tested. The cDNA encoding this novel TRP-2 isoform is identical to a variant of TRP-2 which was previously identified by Rong-fu Wang and Steven A. Rosenberg of the NIH (DHHS Reference No. E-183-96; also available for licensing for certain fields of use) with the exception that the novel isoform contains a 99 base pair insert between exons 6 and 7, which in turn encodes a 33 amino acid sequence. Specific peptides within this 33 amino acid sequence have been identified as melanoma antigens by the inventors. These peptides elicit a cytotoxic T lymphocyte (CTL) response against melanoma cells in the context of HLA-A2, which is widely distributed among patients having malignant melanoma. The peptides therefore represent potential vaccines/immunotherapeutic agents for use against malignant melanoma in HLA-A2-positive patients.

Genes Related to the Development of Refractory Cancer

S. Mousses, O. Kallioniemi, L. Bubendorf (NHGRI)

DHHS Reference No. E-205-00/0 filed 13 Oct 2000

Licensing Contact: Catherine M. Joyce; 301/496-7056 ext. 258; e-mail: joycec@od.nih.gov

This application relates to the identification of nucleic acid molecules that show temporal expression changes in prostate cancer during hormone withdrawal therapy and concomitant tumor regression and in the subsequent development of hormone-refractory prostate cancer (HPRC). More particularly, the invention relates to methods of diagnosing or prognosing the development or progression of prostate cancer by detecting abnormalities in from one to several HPRC-related genes.

This work has appeared, in part in Bubendorf et al., 2001, J. of the National Cancer Institute 91(20):1758.

Dated: September 4, 2001.
Jack Spiegel,
Director, Division of Technology Development and Transfer, Office of Technology Transfer, National Institutes of Health.

[FR Doc. 01-22791 Filed 9-10-01; 8:45 am]

BILLING CODE 4140-01-P